DEPARTMENT OF DEFENSE

Department of the Army; Corps of Engineers

Intent To Prepare a Draft Supplemental Environmental Impact Statement for the Boston Harbor Navigation Improvement Project

AGENCY: Department of the Army, U.S. Army Corps of Engineers, DOD.

ACTION: Notice of intent.

SUMMARY: The U.S. Army Corps of Engineers (Corps), New England District is conducting a feasibility study and Supplemental Environmental Impact Statement (SEIS) to determine the navigation-related needs of the harbor, port facilities, and harbor users of Boston Harbor. This study will analyze deepening various shipping channels in Boston Harbor, Massachusetts. These include the entrance channel, main ship channel, Presidents Roads anchorage area, and the lower Reserved Channel, all from −40 feet mean lower low water (MLLW) up to −50 feet MLLW, the Chelsea River from −38 feet to −40 feet MLLW, and a portion of the Mystic River channel from −35 to −40 feet MLLW. Without deepening portions of Boston Harbor, the ships and port of Boston will be affected in three ways. (1) Existing shippers and their vessels will continue to experience tidal related inefficiencies with the current channel depths, including negating the full advantage of Massport's deeper 45-foot berths at the Conley Terminal. (2) The port will be unable to accommodate the very large container vessels now beginning to serve the east coast of the United States from southern Asia via the Suez Canal. These vessels will not be able to use Boston efficiently with the current −40-foot channel depth. (3) As larger container and bulk vessels continue to come into service to replace existing vessels, Boston's lack of channel depth will erode its share of tonnage as New England cargo is redirected to the ports of New York-New Jersey and Halifax, Nova Scotia, and transported to New England by other means. Deepening the navigation channels in Boston Harbor would allow Boston to maintain a safe and efficient port.

DATES: September 5, 2002 from 1 to 4 p.m. at the Black Falcon Cruise Ship Terminal in South Boston, MA.

ADDRESSES: If you wish to be placed on the mailing list for this project, contact Mr. Michael Keegan, Project Manager, U.S. Army Corps of Engineers, New England District, Navigation Section, 696 Virginia Road, Concord, MA 01742.

FOR FURTHER INFORMATION CONTACT: If you have questions about the proposed action and the Draft SEIS, contact Mr. Keegan at (978) 318-8087.

SUPPLEMENTARY INFORMATION: The Corps participation in this study is authorized by a resolution of the Senate Subcommittee on Public Works dated September 12, 1969. This study was initiated at the request of the Massachusetts Port Authority (Massport), the study sponsor, using funds provided in the Fiscal Year 2000 Energy and Water Development Appropriations Bill.

Major navigation channel improvements (deepening) were made in 1999 through 2002 in the Reserved Channel, the Mystic River, Inner Confluence and the Chelsea River. A final Environmental Impact Statement (EIS) was prepared for the previous navigation improvement project in June of 1995. The current study would investigate the feasibility of deepening the main shipping channels in the port of Boston to a depth greater than the current authorized depths. This study, which will include the preparation of SEIS to the 1995 Record of Decision, will examine the engineering feasibility, economic justification, social and cultural resource impacts, and environmental acceptability of the proposed channel deepening. The existing −40-foot MLLW main harbor entrance channel from Broad Sound, through President Roads, and up to the Marine Terminal just seaward of the Ted Williams Tunnel will be examined for depths up to −50 feet MLLW, as will the Reserved Channel. Deepening of a small area of the Mystic River Channel upstream of the Moran Terminal, from the current −35-foot depth to −40 feet will also be examined, as will deepening the Chelsea River Channel from the current −38-foot depth to −40 feet.

Alternatives: Dredging alternatives would examine the incremental depths from −40-feet to −50-feet MLLW (−38 feet in Chelsea River, and −35 feet in portions of the Mystic River) to determine the optimum economic plan. In addition, disposal alternatives would be determined based on the suitability of the material for open water disposal. Material suitable for ocean disposal would likely be disposed at the Massachusetts Bay Disposal Site. Material unsuitable for ocean disposal would most likely be disposed within a confined aquatic disposal (CAD) cell within the federal navigation channels above the Ted Williams Tunnel. The draft and final EIS for the previous Boston Harbor navigation improvement project investigated other alternative disposal sites for the disposal of dredged material.

The study will take about three years to complete and Massport and the Corps will share the study cost.

Scoping: Full public participation by interested federal, state, and local agencies as well as other interested organizations and the general public is invited. All interested parties are encouraged to submit their names and addresses (see ADDRESSES), to be placed on the mailing list for reviewing any fact sheets, newsletters, and related public notices. Massport will host a public meeting on the study on September 5, 2002 (see DATES). The public is invited to attend and further identify issues that should be addressed in the SEIS.

Dated: August 12, 2002.
Thomas L. Koning,
Colonel, Corps of Engineers, New England District.

[FR Doc. 02-21308 Filed 8-22-02; 8:45 am]

BILLING CODE 3710-24-M